ENVIRONMENTAL PROTECTION AGENCY

[ORD-2004-0009, FRL-7778-7]

Agency Information Collection Activities: Proposed Collection; Comment Request: Inventory of Environmental Public Health Bio Monitoring Programs and Health Surveillance Databases for the Mid Atlantic Region, EPA ICR Number 2146.01

AGENCY: Environmental Protection Agency (EPA).

ACTION: Notice.

SUMMARY: In compliance with the Paperwork Reduction Act (44 U.S.C. 3501 et seq.), this document announces that EPA is planning to submit a proposed Information Collection Request (ICR) to the Office of Management and Budget (OMB). This is a request for a new approved collection. Before submitting the ICR to OMB for review and approval, EPA is soliciting comments on specific aspects of the proposed information collection as described below.

DATES: Comments must be submitted on or before August 27, 2004.

ADDRESSES: Submit your comments, referencing docket ID number ORD-2004-0009, to EPA online using EDOCKET (our preferred method), by e-mail to oei.docket@epa.gov, or by mail to: EPA Docket Center, Environmental Protection Agency, Office of Environmental Information Docket, Mail Code 28221T, 1200 Pennsylvania Ave., NW., Washington, DC 20460.

FOR FURTHER INFORMATION CONTACT: Marsha Marsh, U.S. EPA /ORD/Mid Atlantic Integrated Assessment Offices (MAIA), Research Triangle Park, NC 27722, Mail Code E 343-03; telephone number: 919-541-2542; fax number: 919-541-7588; e-mail address: marsh.marsha@epa.gov; or Patricia Bradley, Director, U.S. EPA/ORD/Mid Atlantic Integrated Assessment Office (MAIA), Environmental Science Center, 701 Mapes Road, Ft Meade, MD 20755-5053; telephone: 410-305-2744; e-mail address: bradley.patricia@epa.gov.

SUPPLEMENTARY INFORMATION: EPA has established a public docket for this ICR under Docket ID number ORD-2004-0009, which is available for public viewing at the Office of Environmental InformationDocket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for Environmental Information Docket is (202) 566-1752. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected entities: Entities potentially affected by this action are a broad brush of State/Federal/ environmental groups, private environmental/health agencies, academic partners/institutions and research bodies, both private and public. This is inclusive of but not limited to specialities in the areas of ecology, genetics, chemistry , geology, hydrology, economics, sociology, psychology, political science, statistics, information, GIS, and health science, public health, medical and veterinary science, pharmacology, toxicology.

Title: Inventory Of Environmental Public Health Bio monitoring Programs And Health Surveillance Databases For The Mid Atlantic Region.

Abstract: The overarching theme/rationale of the project is to improve the linkages between human health and environmental conditions in the Mid Atlantic Region.

The U.S. Environmental Protection Agency is working with Federal/State/local and academic partners to produce an online interactive, spatial inventory of public health bio monitoring databases within environmental programs and health surveillance databases for the Mid Atlantic region. Data identified by the inventory will contribute to the Mid Atlantic Integrated Assessment (MAIA) experimental research and monitoring effort that links human health and environmental condition and will build upon the success of the MAIA regional scale geographic assessment of ecological condition. The efforts will combine many scientific disciplines including ecology , chemistry, geology, hydrology, economics, sociology, psychology, political science, statistics, informatics, GIS, and health science (e.g., public health, medical and veterinary science, pharmacology, toxicology, etc) in an effort to study the effects of the changed environment upon humans. Data is to be collected by the individual interview (either in person or by phone calls) on an unpaid voluntary basis. The data in the inventory will be available electronically and on the Internet for use by a variety of resource managers, regulators, the scientific community and the informed public. The data will allow the user to identify the location, purpose, agency/institution participation, parameter characteristics (type, frequency, format) and data disposition for each inventoried program. The inventory will contain information on program design, program administration, and specific meta-data on parameters that are monitored on environmental health. It will not include any personal information or any confidential information.

An agency may not conduct or sponsor, and a person is not required to respond to, a collection of information unless it displays a currently valid OMB control number. The OMB control numbers for EPA's regulations in 40 CFR are listed in 40 CFR part 9.

The EPA would like to solicit comments to: (i) Evaluate whether the proposed collection of information is necessary for the proper performance of the functions of the Agency, including whether the information will have practical utility; (ii) enhance the quality, utility, and clarity of the information to be collected; and (iii) minimize the burden of the collection of information on those who are to respond, including through the use of appropriate automated electronic, mechanical, or other technological collection techniques or other forms of information technology, e.g., permitting electronic submission of responses.

Burden Statement: The number of respondents will average some 75-85 respondents from multiple sources inclusive of public/private/State/Federal and independent groups for issues of broad national interest within public health and environmental bio-monitoring areas. It is estimated to average 1 hour per respondent for completion of the survey tool, which is voluntary. Frequency of this burden is only once until the surveillance program is reorganized or altered. The total cost of the start-up, capital, O & M should average approximately $2,000.00. The survey tools are administered individually to each respondent, thus there are no postage costs incurred or other related expenses for the respondents within the survey sample to be pooled. Burden means the total time, effort, or financial resources expended by person to generate, maintain, retain, or disclose or provide information to or for a Federal agency. This includes the time needed to review instructions, develop, acquire, install and utilize technology and systems for the purposes of collecting, validating, and verifying information, processing and maintaining information, and disclosing and providing information; adjust the existing ways to comply with any previously applicable instructions and requirements; train personnel to be able to respond to a collection of information; search data sources; complete and review the collection of information; search data sources; complete and review the collection of information; and transmit or otherwise disclose the information.

Dated: June 7, 2004.
Steve Hedtke,
Acting Director, National Health Environmental Effects Research Laboratory.

[FR Doc. 04-14607 Filed 6-25-04; 8:45 am]

BILLING CODE 6560-50-P